NUCLEAR REGULATORY COMMISSION

[Docket Nos. 50-317 and 50-318; NRC-2010-0337]

Calvert Cliffs Nuclear Power Plant, LLC; Calvert Cliffs Nuclear Power Plant, Unit Nos. 1 and 2; Notice of Withdrawal of Application for Amendment to Facility Operating License

The U.S. Nuclear Regulatory Commission (the Commission) has granted the request of Calvert Cliffs Nuclear Power Plant, LLC, the licensee, to withdraw its January 29, 2010 application for proposed amendment to Facility Operating License Nos. DPR-53 and DPR-69 for the Calvert Cliffs Nuclear Power Plant, Unit Nos. 1 and 2, located in Calvert County, MD.

The proposed amendment would have revised Technical Specification (TS) 3.4.10, “Pressurizer Safety Valves,” by modifying the existing Note within the TS. The Note allows the pressurizer safety valve lift settings to be outside the Limiting Condition for Operation limit as a result of temperature related lift setting drift, while the Unit is in applicable portions of Mode 3.

The Commission had previously issued a Notice of Consideration of Issuance of Amendment published in the Federal Register on April 20, 2010 (75 FR 20630). However, by letter dated October 4, 2010, the licensee withdrew the proposed change.

For further details with respect to this action, see the application for amendment dated January 29, 2010, as supplemented on July 2, 2010, and the licensee's letter dated October 4, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 19th day of October 2010.
For the Nuclear Regulatory Commission.
Douglas V. Pickett,
Senior Project Manager, Plant Licensing Branch I-1, Division of Operating Reactor Licensing, Office of Nuclear Reactor Regulation.

[FR Doc. 2010-27414 Filed 10-28-10; 8:45 am]

BILLING CODE 7590-01-P